DEPARTMENT OF HEALTH AND HUMAN SERVICES

Centers for Disease Control and Prevention

Clinical Laboratory Improvement Advisory Committee

Correction: This notice was published in the Federal Register on March 24, 2015, Volume 80, Number 56, Pages 15621-15622. The times and dates should read as follows:

Times and Dates: 12:30 p.m.—5:00 p.m., April 15, 2015; 8:30 a.m.—12:00 p.m., April 16, 2015.

Contact Person for Additional Information: Nancy Anderson, Chief, Laboratory Practice Standards Branch, Division of Laboratory Programs, Standards, and Services, Center for Surveillance, Epidemiology and Laboratory Services, Office of Public Health Scientific Services, CDC, 1600 Clifton Road NE., Mailstop F-11, Atlanta, Georgia 30329-4018; telephone (404) 498-2741; or via email at NAnderson@cdc.gov

The Director, Management Analysis and Services Office, has been delegated the authority to sign Federal Register notices pertaining to announcements of meetings and other committee management activities for both the Centers for Disease Control and Prevention and the Agency for Toxic Substances and Disease Registry.

Catherine Ramadei,
Acting Director, Management Analysis and Services Office, Centers for Disease Control and Prevention.

[FR Doc. 2015-07639 Filed 4-2-15; 8:45 am]

BILLING CODE 4163-18-P